FARM CREDIT ADMINISTRATION

12 CFR Parts 607, 614, 615, 620 and 628

RIN 3052-AC81

Regulatory Capital Rules: Regulatory Capital, Implementation of Tier 1/Tier 2 Framework

AGENCY: Farm Credit Administration.

ACTION: Proposed rule; extension of comment period.

SUMMARY: The Farm Credit Administration (FCA or we) published a proposed rule that would revise our regulatory capital requirements for Farm Credit System (System) institutions to include tier 1 and tier 2 risk-based capital ratio requirements (replacing core surplus and total surplus requirements), a tier 1 leverage requirement (replacing a net collateral requirement for System banks), a capital conservation buffer, revised risk weightings, and additional public disclosure requirements. The revisions to the risk weightings would include alternatives to the use of credit ratings, as required by section 939A of the Dodd-Frank Wall Street Reform and Consumer Protection Act. To allow interested parties additional time to submit comments, we are extending the comment period on the proposed rule from January 2, 2015 to February 16, 2015.

DATES: Comments on the proposed rule must be submitted on or before February 16, 2015.

ADDRESSES: For accuracy and efficiency reasons, commenters are encouraged to submit comments by email or through the FCA's Web site. As facsimiles (fax) are difficult for us to process and achieve compliance with section 508 of the Rehabilitation Act, we no longer accept comments submitted by fax. Regardless of the method you use, please do not submit your comments multiple times via different methods. You may submit comments by any of the following methods:

• Email: Send an email to reg-comm@fca.gov.

• FCA Web site: http://www.fca.gov. Select “Public Commenters,” then “Public Comments,” and follow the directions for “Submitting a Comment.”

• Federal eRulemaking Portal: http://www.regulations.gov. Follow the instructions for submitting comments.

• Mail: Barry F. Mardock, Deputy Director, Office of Regulatory Policy, Farm Credit Administration, 1501 Farm Credit Drive, McLean, VA 22102-5090.

You may review copies of all comments we receive at our office in McLean, Virginia or on our Web site at http://www.fca.gov. Once you are in the Web site, select “Public Commenters,” then “Public Comments,” and follow the directions for “Reading Submitted Public Comments.” We will show your comments as submitted, including any supporting data provided, but for technical reasons we may omit items such as logos and special characters. Identifying information that you provide, such as phone numbers and addresses, will be publicly available. However, we will attempt to remove email addresses to help reduce Internet spam.

FOR FURTHER INFORMATION CONTACT: J. C. Floyd, Associate Director, Finance and Capital Markets Team, Office of Regulatory Policy, Farm Credit Administration, McLean, VA 22102-5090, (703) 883-4414, TTY (703) 883-4434, or Rebecca S. Orlich, Senior Counsel, or Jennifer A. Cohn, Senior Counsel, Office of General Counsel, Farm Credit Administration, McLean, VA 22102-5090, (703) 883-4020, TTY (703) 883-4020.

SUPPLEMENTARY INFORMATION: On September 4, 2014, the FCA published a proposed rule in the Federal Register seeking public comment on proposed changes to our capital regulations. See 79 FR 52814. The comment period is scheduled to close on January 2, 2015. The FCA received several letters in response to the proposed rule requesting we extend the comment period by 90 days. The requesters asserted that the proposed rule would have the most impact of any rule the FCA has ever adopted and is the longest and most complex proposal in the System's history. In addition, they noted that its comment period overlapped with the comment periods of several other important regulations and also with year-end business planning. They would like additional time to evaluate the impact of the rule.

The FCA supports public involvement and participation in its regulatory process and invites all interested parties to review and comment on our proposed rule. We balanced the reasons provided with the request for more time against the substantial time period the requesters have had to consider and provide comments on the rule.¹ As a result, we are extending the comment period 45 days instead of the requested 90 days.

¹ As of December 10, 2014, the Agency has received over 560 comment letters on the proposed rule.

Dated: December 17, 2014.
Mary Alice Donner,
Acting Secretary, Farm Credit Administration Board.

[FR Doc. 2014-30061 Filed 12-22-14; 8:45 am]

BILLING CODE 6705-01-P